DEPARTMENT OF STATE

[Public Notice 3806]

Bureau of Population, Refugees, and Migration; Information Collection

ACTION: 30-Day Notice of Information Collection: Refugee Biographic Data, OMB # 1405-0102.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a currently approved collection.

Originating Office: Bureau of Population, Refugees, and Migration (PRM).

Title of Information Collection: Refugee Biographic Data.

Frequency: On occasion.

Form Number: N/A.

Respondents: Refugees Abroad.

Estimated Number of Respondents: 80,000.

Average Hours Per Response: 30 minutes.

Total Estimated Burden: 40,000 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER ADDITIONAL INFORMATION: Copies of the proposed information collection and supporting documents may be obtained from Office of Admissions, Bureau for Population, Refugees, and Migration, U.S. Department of State, Washington, DC 20520 (202-663-1056). Public comments and questions should be directed to the State Department Desk Officer, Office of Information and Regulatory Affairs, Office of Management and Budget (OMB), Washington, DC 20530, (202) 395-5871.

Dated: August 17, 2001.
James. P. Kelley,
Executive Director, Bureau of Population, Refugees and Migration, Department of State.

[FR Doc. 01-25273 Filed 10-9-01; 8:45 am]

BILLING CODE 4710-33-P